DEPARTMENT OF TRANSPORTATION

National Highway Traffic Safety Administration

23 CFR Part 1300

RIN 2127-AM65

Uniform Procedures for State Highway Safety Grant Programs

AGENCY: National Highway Traffic Safety Administration (NHTSA), U.S. Department of Transportation (DOT).

ACTION: Final rule.

SUMMARY: This final rule amends the definition of “equipment” to conform with OMB's government-wide Guidance for Federal Financial Assistance affecting Federal grants.

DATES: This final rule is effective on October 1, 2024.

ADDRESSES: This document may be viewed online through the Federal eRulemaking portal at www.regulations.gov using the RIN number listed above. Electronic retrieval help and guidelines are available on the website. It is available 24 hours each day, 365 days each year. An electronic copy of this document may be downloaded by accessing the Office of the Federal Register's website at: www.federalregister.gov and the U.S. Government Publishing Office's website at: www.GovInfo.gov.

FOR FURTHER INFORMATION CONTACT:

Program issues: Barbara Sauers, Associate Administrator, Regional Operations and Program Delivery, National Highway Traffic Safety Administration; Telephone number: (202) 366-0144; Email: barbara.sauers@dot.gov.

Legal issues: Megan Brown, Attorney-Advisor, Office of the Chief Counsel, National Highway Traffic Safety Administration, 1200 New Jersey Avenue SE, Washington, DC 20590; Telephone number: (202) 366-1834; Email: megan.brown@dot.gov.

SUPPLEMENTARY INFORMATION:

Table of Contents

I. Background

II. Technical Amendment Increasing Monetary Threshold for Equipment

III. Waiver of Notice and Comment

IV. Regulatory Analyses and Notices

I. Background

On February 6, 2023, NHTSA published in the Federal Register a final rule titled Uniform Procedures for State Highway Safety Grant Programs. 88 FR 7780 (Feb. 6, 2023). NHTSA promulgated this final rule in accordance with the Infrastructure Investment and Jobs Act (IIJA, also known as the Bipartisan Infrastructure Law or BIL), signed into law on November 15, 2021 (Pub. L. 117-58).

On April 22, 2024, after conducting notice and comment rulemaking, the Office of Management and Budget (OMB) published in the Federal Register revisions to its Guidance for Federal Financial Assistance, including the Uniform Administrative Requirements, Cost Principles, and Audit Requirements for Federal Awards (“Uniform Administrative Requirements”). 89 FR 30046 (Apr. 22, 2024). OMB is tasked with providing guidance to Federal agencies to ensure consistent and efficient use of Federal financial assistance and to provide direction and leadership to Federal agencies on Federal financial assistance requirements. In its final rule, OMB increased the monetary threshold for “equipment” in 2 CFR 200.1 from $5,000 to $10,000: This increase in the monetary threshold affects the application of several OMB requirements, including 2 CFR 200.313(e), which provides additional regulatory requirements relating to use, management and disposition of equipment acquired under a Federal award, and 2 CFR 200.439(b)(2), which provides rules of allowability for equipment. DOT adopts the Uniform Administrative Requirements via 2 CFR part 1201.

The regulation implementing NHTSA's State highway safety grant program lays out requirements related to “equipment” in 23 CFR 1300.31(d) specific to the NHTSA's grant program. Among other things, 23 CFR 1300.31(d) requires States to seek prior written approval from the Regional Administrator before purchasing or disposing of equipment, unless the to-be-disposed-of equipment “exceeded its useful life” under State law. 23 CFR 1300.31(d) uses a $5,000 monetary threshold to define “equipment,” matching the prior OMB rules.

II. Technical Amendment Increasing Monetary Threshold for Equipment

In this rule, effective for fiscal year 2025 grants, NHTSA makes a technical amendment to update the monetary threshold for equipment in NHTSA's Uniform Procedures for State highway safety grant programs from $5,000 to $10,000 in 23 CFR 1300.31(d) to conform with the updated OMB rules. As a result of this threshold increase, States will no longer have to seek pre-approval to purchase or dispose of equipment between $5,000 and $9,999.99. In addition, States will no longer have to apply the heightened rules for use and management of equipment for items that fall under $10,000. States should be aware, however, that they must continue to meet all State rules for equipment, as defined by the State. This rule will become effective on October 1, 2024, and will apply to fiscal year 2025 State highway safety grants and later.

III. Waiver of Notice and Comment

NHTSA concludes that it has good cause to issue without notice and comment this technical amendment under 5 U.S.C. 553(b)(B). 5 U.S.C. 553(b)(B) provides that when an agency, for good cause, finds that notice and public comment are impractical, unnecessary, or contrary to the public interest, the agency may issue a final rule without providing notice and an opportunity for public comment.

NHTSA makes this technical amendment to conform with the revisions published in OMB's final rule after OMB received and analyzed public comment. By issuing this technical amendment, NHTSA establishes consistency with OMB's rules and avoids confusion for State recipients of NHTSA's State highway safety grant programs as they prepare their fiscal year 2025 annual grant applications due August 2024.

Since NHTSA is issuing this technical amendment to conform with OMB's updated definition, providing notice and an opportunity for public comment is impracticable and unnecessary.

III. Regulatory Analyses and Notices

A. Executive Order (E.O.) 12866 (Regulatory Planning and Review), E.O. 13563 (Improving Regulation and Regulatory Review), and DOT Regulatory Policies and Procedures

NHTSA has considered the impact of this rulemaking action under E.O. 12866 (as amended by E.O. 14094), E.O. 13563, and DOT's regulatory policies and procedures. This rulemaking document was not reviewed under E.O. 12866 or E.O. 13563. This action is not expected to impose any costs because it makes a limited revision that will lessen administrative burden under the State highway safety grant program. This rulemaking has been determined to be not “significant” under DOT's regulatory policies and procedures and the policies of OMB.

B. Regulatory Flexibility Act

The Regulatory Flexibility Act (RFA) of 1980 (5 U.S.C. 601 et seq.) requires agencies to evaluate the potential effects of their proposed and final rules on small businesses, small organizations, and small governmental jurisdictions. Section 605 of the RFA allows agencies to certify a rule, in lieu of preparing an analysis, if the proposed rulemaking is not expected to have a significant economic impact on a substantial number of small entities. The Small Business Regulatory Enforcement Fairness Act of 1996 (Pub. L. 104-21, 110 Stat. 857) amended the RFA to require Federal agencies to provide a statement of the factual basis for certifying that an action would not have a significant economic impact on a substantial number of small entities.

This final rule makes a limited revision to the uniform procedures implementing State highway safety grant programs, which were previously determined not to have a significant impact on a substantial number of small entities. The grant programs impacted by this rule will affect only State governments, which are not considered to be small entities as that term is defined by the RFA. Therefore, NHTSA certifies that this action will not have a significant impact on a substantial number of small entities and finds that preparing a Regulatory Flexibility Analysis is unnecessary.

C. Executive Order 13132 (Federalism)

E.O. 13132 on “Federalism” requires NHTSA to develop an accountable process to ensure “meaningful and timely input by State and local officials in the development of regulatory policies that have federalism implications.” 64 FR 43255 (August 10, 1999). “Policies that have federalism implications” are defined in the E.O. to include regulations that have “substantial direct effects on the States, on the relationship between the national government and the States, or on the distribution of power and responsibilities among the various levels of government.” Under E.O. 13132, an agency may not issue a regulation with federalism implications that imposes substantial direct compliance costs not required by statute unless the Federal Government provides the funds necessary to pay the direct compliance costs incurred by State and local governments or the agency consults with the State and local government in the process of developing the proposed regulation. An agency also may not issue a regulation with federalism implications that preempts a State law without consulting with State and local officials.

NHTSA analyzed this rulemaking action in accordance with the principles and criteria set forth in E.O. 13132. The limited revision made by this rulemaking will decrease administrative burden for State recipients by updating the highway safety grant program's definition of “equipment” to conform with the updated OMB government-wide guidance for Federal financial assistance. Therefore, NHTSA determines that this technical amendment would not have sufficient federalism implications as defined in the Order to warrant formal consultation with State and local officials or preparation of a federalism summary impact statement.

D. Executive Order 12988 (Civil Justice Reform)

Pursuant to E.O. 12988 (61 FR 4729 (February 7, 1996)), “Civil Justice Reform,” the agency has considered whether this rule would have any retroactive effect. I conclude that it would not have any retroactive or preemptive effect, and judicial review it may be obtained pursuant to 5 U.S.C. 702. That section does not require that a petition for reconsideration be filed prior to seeking judicial review. This action meets applicable standards in sections 3(a) and 3(b)(2) of E.O. 12988, Civil Justice Reform, to minimize litigation, eliminate ambiguity, and reduce burden.

E. Paperwork Reduction Act

Under the procedures established by the Paperwork Reduction Act of 1995, codified at 44 U.S.C. 3501 et seq., a person is not required to respond to a collection of information by a Federal agency unless the collection displays a valid OMB control number. This rulemaking does not establish any new information collection requirements.

F. Unfunded Mandates Reform Act

The Unfunded Mandates Reform Act (UMRA) of 1995 (Pub. L. 104-4) requires agencies to prepare a written assessment of the costs, benefits, and other effects of proposed or final rules that include a Federal mandate likely to result in expenditures by State, local, or Tribal governments, in the aggregate, or by the private sector, of more than $100 million annually (adjusted annually for inflation with the base year of 1995). This rulemaking would not meet the definition of a Federal mandate because the resulting annual State expenditures will not exceed the minimum threshold; instead, this rulemaking will likely decrease administrative costs for States. Further, this rulemaking action updates NHTSA's State highway safety grant program, a voluntary program and States that choose to apply and qualify would receive grant funds.

G. National Environmental Policy Act

NHTSA has analyzed the impacts of this rulemaking action under the National Environmental Policy Act (NEPA), codified at 42 U.S.C. 4321 et seq. NHTSA determines that this rulemaking would not have a significant impact on the quality of the human environment.

H. Executive Order 13211 (Actions Concerning Regulations That Significantly Affect Energy Supply, Distribution, or Use)

E.O. 13211 applies to any rulemaking that is: (1) determined to be economically significant under E.O. 12866, and likely to have a significant adverse effect on the supply, distribution, or use of energy; or (2) designated by the Administrator of the Office of Information and Regulatory Affairs as a significant energy action. 66 FR 28355 (May 18, 2001). This rulemaking is not likely to have a significant adverse effect on the supply of, distribution of, or use of energy. This rulemaking has not been designated as a significant energy action. Accordingly, this rulemaking is not subject to E.O. 13211.

I. Executive Order 13175 (Consultation and Coordination With Indian Tribes)

NHTSA has analyzed this rulemaking under E.O. 13175 and determined that it would not have a substantial direct effect on one or more Indian Tribes, would not impose substantial direct compliance costs on Indian Tribal governments, and would not preempt Tribal law. Therefore, a Tribal summary impact statement is not required.

J. Privacy Act

Please note that anyone can search the electronic form of all comments received into any of our dockets by the name of the individual submitting the comment (or signing the comment, if submitted on behalf of an association, business, labor union, etc.). You may review DOT's complete Privacy Act Statement in the Federal Register published on April 11, 2000 (65 FR 19477). For additional information on DOT's compliance with the Privacy Act, please visit https://www.transportation.gov/privacy.

List of Subjects in 23 CFR Part 1300

Administrative practice and procedure, Alcohol abuse, Drug abuse, Grant programs—transportation, Highway safety, Intergovernmental relations, Motor vehicles—motorcycles, Reporting and recordkeeping requirements.

For the reasons stated in the preamble, under the authority of 23 U.S.C. 401 et seq., the NHTSA amends 23 CFR part 1300 as follows:

PART 1300—UNIFORM PROCEDURES FOR STATE HIGHWAY SAFETY GRANT PROGRAMS

1. The authority citation for part 1300 continues to read as follows:

Authority: 23 U.S.C. 402; 23 U.S.C. 405; Sec. 1906, Pub. L. 109-59, 119 Stat. 1468, as amended by Sec. 25024, Pub. L. 117-58, 135 Stat. 879; delegation of authority at 49 CFR 1.95.

2. Amend § 1300.31 by revising paragraph (d) introductory text to read as follows:

§ 1300.31 Equipment.

* * * * *

(d) Major purchases and dispositions. Equipment with a useful life of more than one year and an acquisition cost of $10,000 or more shall be subject to the following requirements:

* * * * *

Issued in Washington, DC, under authority delegated in 49 CFR 1.81 and 1.95 and 49 CFR 501.5.
Sophie Shulman,
Deputy Administrator.

[FR Doc. 2024-15289 Filed 7-12-24; 8:45 am]

BILLING CODE 4910-59-P